DEPARTMENT OF COMMERCE

Foreign-Trade Zones Board

[B-37-2025]

Foreign-Trade Zone (FTZ) 45, Notification of Proposed Production Activity; Intel Foundry Corporation; (Semiconductor Products); Aloha and Hillsboro, Oregon

Intel Foundry Corporation submitted a notification of proposed production activity to the FTZ Board (the Board) for its facilities in Aloha and Hillsboro, Oregon within FTZ 45. The notification conforming to the requirements of the Board's regulations (15 CFR 400.22) was received on July 11, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: semiconductor transducers; electronic integrated circuit processors and controllers; electronic integrated circuit memories; electronic integrated circuit amplifiers; electronic integrated circuits; printed circuits; and, photomasks (duty-free).

The proposed foreign-status materials/components include: magnesium oxide; propane; methane; chlorine; corundum; oxygen; argon; acetylene gas; helium; xenon; liquid nitrogen; nitrogen; compressed oxygen; hydrogen; silicon; phosphorous; hydrochloric acid; fluorine gas mixture; sulfuric acid; nitric acid; phosphoric acid; phosphoric acid based solution; hydrofluoric acid; xenon and hydrogen mixture; hydrogen bromide; carbon dioxide; acid solution; silica; carbon monoxide; sulfur dioxide; nitric oxide; nitrogen dioxide; nitrous oxide; boron trichloride; silicon tetrachloride; chlorine trifluoride; diiodosilane; silicon tetrafluoride; nitrogen trifluoride; anyhdrous ammonia; ammonia; silicon dioxide; sodium hydroxide; potassium hydroxide; aluminum compound; aluminum oxide mix; antimony oxide; hafnium(IV) oxide; ammonium fluoride; sulfur hexafluoride; tungsten hexafluoride; gallium compound; germanium tetrachloride; metal chloride; zinc chloride; titanium tetrachloride; metal halide; sodium hypochlorite; copper sulfate solution; copper sulfate; cobalt sulfate; silicate reagent; borane compound; deuterium; cerium oxide/water dispersion; hydrogen peroxide; silicon carbide; arsine dopant gas; disilane; germane; silane; germane containing gas; carbonyl sulfide; dichlorosilane; phosphine of copper; hexane; octane; ethylene; alkylacetylene; ethyne also known as acetylene; hydrocarbon deposition solution; toluene; dichloromethane; trans-dichloroethylene; CHF3 (trifluoromethane); difluoromethane; methyl fluoride; perfluoro; perfluorocyclobutane; halocarbon-14 (tetraflouromethane); hexafluoro-1,3-butadiene; halocarbon-318 (Octafluorocyclobutane); methyl isobutyl carbinol solution; methanol; isopropyl alcohol; tert-butyl alcohol; distillates, fatty alcohol; 4-Methylpentan-2-ol; 1,2-Propanediol; dipropylene glycol; 1-methoxy-2-propanol; naphthalene; hexachlorodisilane; acetone; 2-heptanone; cyclohexanone; cyclopentanone; formic acid; acetic acid; acetate; sodium acetate; butyl acetate; anhydride compound; zinc naphthenates; citric acid; dimethylamine; amine; tetrakis (methylethylamino) zirconium (TEMAZr); diethylenetriamine; triethanolamine based solution; N-methylethanolamine solution; tetrameethylammonium hydroxide developer solution; acetonitrile; N,N-diethylhydroxylamine; organic sulfide; metal alkyl; proprietary alkoxysilane; bis (dieethylamino) silane; silicon containing organic precursor; tetramethylsilane; trimethylaluminum; trimethylsilane; hexamethyldisilazane photoresist; N.N-bis91-methylethyl) silanamine; gamma-butyrolactone, anisole; pyridine; 1,2,4-Triazole; azole compound; azoles; ascorbic acid; 1-methyl-2-pyrrolidone; potassium chloride based solution; potassium chloride electrode filling solution; 2-propanol, 1-methoxy, 2-aceetate based undercoat material; detergent; benzotriazole based cleaning solution; polyglycerol polymer based slurry; surfactant solution; copper cleaning solution; dicing aid, detergent, lubricant and coolant-water and surfactants; dicing fluid—dicing aid and detergent; dimethyl sulfoxide based cleaning solvent; ethanolamine based wafer cleaning solution; butoxyethanol based wafer cleaning solution; hydroxyethanediphsphonic acid-based wafer cleaning solution; cutting oil; organic based cutting fluid; isoparaffinic polyalphaolefin; oil based lubrication; thermal paste; lubricating preparations; poly (ethylene glycol); acetic acid based slurry; amorphous silica based slurry; cerium dioxide based slurry; cerium hydroxide based slurry; chemical mechanical planarization slurry; potassium hydroxide based slurry; silica and phosphoric acid-based slurry; tetraethylammonium hydroxide-based slurry; polymer based adhesive; catalase; mask blanks; anti-reflective photoresist chemical coating; overcoat material for photoresist application; photoresist; photoresist stripper; methyl 2-hydroxyisobutyrate based photoresist solution; photoresist chemical mixtures; propylene glycol monomethyl ether acetate based photoresist solution; activated carbon; alpha paste flux; solder flux; flux off; soldering, brazing or welding powder; corrosion inhibitor; corrosive solvent; wafers; antifreeze; coolant; alkyl alcohol; diborane gas; 4-morpholinecarbaldehyde based solution; acetic acid based solution; blue colloidal silica suspension 0.05μm; cobalt based solution; ethylene glycol; tetrahydrothiophene-1, 1-dioxide based solution; plating chemical; calibration gases—diluted helium/hydrogen; solvent thinner; antistatic; copper plating solution; copper sulfate plating organics; diborane and argon mixture; diborane and hydrogen mixture; dopant gas; electrolyte; ethyl acetoacetate/acrylic Polymer; dust-off; fluorine and nitrogen mixture; helium and nitrogen mixture; helium based compressed gas mixture; hydrogen and argon mixture; hydrogen and helium mixture; hydrogen and nitrogen mixture; isobutyl propionate based developer solution; methane and argon mixture; oxygen and helium mixture; xenon difluoride; Teflon; acrylic based resin; epoxy molding electrically stable chemical; epoxy; epoxy molding electrically stable compound; polyethylene terephthalate; melamine resin; ion exchange resin; ion exchanger; plastic filament; nylon; acrylic die attach film; adhesive tape; adhesive film; plastic case for semiconductor wafers; ethylene bags for packing; plastic packing; plastic bottles; butyrolactone; glass, quartz; articles of glass, quartz reactor tubes; polycrystalline diamond suspension; diamond slurry; silver compound; gold; platinum; iridium; fasteners; copper anode; copper; copper balls; copper/manganese target; copper danglers; tungsten containing compounds; molybdenum; tantalum powder; cobalt/iron; bismuth containing compounds; metal target (titanium); titanium containing compound; chromium; gallium; copper/manganese target; solder wire; central processing unit cooler; cooling fans; purifying machine for oil separation; desiccant cartridges; storage units; aluminum target; copper sputtering target; copper target; copper/aluminum target; cobalt sputtering target; gadolinium sputter target; power adapters; power supplies; copper lugs; telecommunication connectors; tantalum sputtering target; titanium sputtering target; communications acid cables; electrical conductor for telecommunication; fitted electric conductors; power cables; copper electrical conductors; insulated electrical conductor; perfluoropolyether-lubricant; and, methanesulfonic acid (duty rate ranges from duty-free to 15%). The request indicates that certain materials/components are subject to duties under section 1702(a)(1)(B) of the International Emergency Economic Powers Act (section 1702), section 232 of the Trade Expansion Act of 1962 (section 232) and section 301 of the Trade Act of 1974 (section 301), depending on the country of origin. The applicable section 1702, section 232 and section 301 decisions require subject merchandise to be admitted to FTZs in privileged foreign status (19 CFR 146.41).

Public comment is invited from interested parties. Submissions shall be addressed to the Board's Executive Secretary and sent to: ftz@trade.gov. The closing period for their receipt is September 2, 2025.

A copy of the notification will be available for public inspection in the “Online FTZ Information System” section of the Board's website.

For further information, contact Christopher Wedderburn at Chris.Wedderburn@trade.gov.

Dated: July 17, 2025.
Camille R. Evans,
Acting Executive Secretary.

[FR Doc. 2025-13786 Filed 7-21-25; 8:45 am]

BILLING CODE 3510-DS-P